FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 26, 2003.

A. Federal Reserve Bank of Atlanta (Sue Costello, Vice President) 1000 Peachtree Street, N.E., Atlanta, Georgia 30303:

1. Neil D. McCurry, Jr., Sarasota, Florida;to acquire additional shares and J. Steadman McCurry, Charlotte, North Carolina, Neil D. McCurry, Sr., and Bettye S. McCurry, Bradenton, Florida, and Liane McCury, Sarosota, Florida; to retain voting shares of People's Community BancShares, Inc., Sarasota, Florida, and thereby indirectly retain voting shares of People's Community Bank of the West Coast, Sarasota, Florida.

B. Federal Reserve Bank of Kansas City (Susan Zubradt, Assistant Vice President) 925 Grand Avenue, Kansas City, Missouri 64198-0001:

1. Aubrey K. McClendon; Tom L. Ward; Marcus C. Rowland; Shannon T. Self, and C. Ray Lees, all of Oklahoma City, Oklahoma (as a group), to acquire voting shares of First Medicine Lodge Bancshares, Inc., Overland Park, Kansas, and thereby indirectly acquire voting shares of First Bank of Medicine Lodge, Medicine Lodge, Kansas.

Board of Governors of the Federal Reserve System, March 6, 2003.
Robert deV. Frierson,
Deputy Secretary of the Board.

[FR Doc. 03-5840 Filed 3-11-03; 8:45 am]

BILLING CODE 6210-01-S